SUSQUEHANNA RIVER BASIN COMMISSION

Commission Meeting

AGENCY: Susquehanna River Basin Commission.

ACTION: Notice.

SUMMARY: The Susquehanna River Basin Commission will hold its regular business meeting on March 10, 2016, in Aberdeen, Maryland. Details concerning the matters to be addressed at the business meeting are contained in the SUPPLEMENTARY INFORMATION section of this notice.

DATES: The meeting will be held on Thursday, March 10, 2016, at 9 a.m.

ADDRESSES: The meeting will be held at the University Center, Room 130/131, 1201 Technology Drive, Aberdeen, MD 21001.

FOR FURTHER INFORMATION CONTACT: Jason E. Oyler, General Counsel, telephone: (717) 238-0423, ext. 1312; fax: (717) 238-2436.

SUPPLEMENTARY INFORMATION: The business meeting will include actions or presentations on the following items: (1) Informational presentation of interest to the Lower Susquehanna Subbasin area; (2) adoption of final FY2017 budget; (3) a recommendation for new independent auditors; (4) ratification/approval of contracts/grants; (5) regulatory compliance matters for Cabot Oil & Gas Corporation, King Valley Golf Course, and Aqua Pennsylvania, Inc.; and (6) Regulatory Program projects.

Projects listed for Commission action are those that were the subject of a public hearing conducted by the Commission on February 4, 2016, and identified in the notice for such hearing, which was published in 81 FR 566, January 6, 2016.

The public is invited to attend the Commission's business meeting. Comments on the Regulatory Program projects are subject to a deadline of February 15, 2016. Written comments pertaining to other items on the agenda at the business meeting may be mailed to the Susquehanna River Basin Commission, 4423 North Front Street, Harrisburg, Pennsylvania 17110-1788, or submitted electronically through http://www.srbc.net/pubinfo/publicparticipation.htm. Such comments are due to the Commission on or before March 4, 2016. Comments will not be accepted at the business meeting noticed herein.

Authority: Pub. L. 91-575, 84 Stat. 1509 et seq., 18 CFR parts 806, 807, and 808.

Dated: February 5, 2016.
Stephanie L. Richardson,
Secretary to the Commission.

[FR Doc. 2016-02697 Filed 2-9-16; 8:45 am]

BILLING CODE 7040-01-P